DEPARTMENT OF HOUSING AND URBAN DEVELOPMENT

[Docket No. FR-7034-N-11]

30-Day Notice of Proposed Information Collection: Rental Assistance Demonstration (RAD) Choice Mobility and Long-Term Affordability Evaluation OMB Control No. 2528-New

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: April 1, 2021.

ADDRESSES: Interested persons are invited to submit comments regarding this proposal. Comments should refer to the proposal by name and/or OMB Control Number and should be sent to: HUD Desk Officer, Office of Management and Budget, New Executive Office Building, Washington, DC 20503; fax:202-395-5806, Email: OIRA Submission@omb.eop.gov

FOR FURTHER INFORMATION CONTACT: Anna P. Guido, Reports Management Officer, QMAC, Department of Housing and Urban Development, 451 7th Street, SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on June 9, 2020 at 85 FR 35328.

A. Overview of Information Collection

Title of Information Collection: Rental Assistance Demonstration (RAD) Choice Mobility and Long-Term Affordability Evaluation.

OMB Approval Number: 2528-New.

Type of Request: New collection.

Form Number: NA

Description of the need for the information and proposed use:

The Office of Policy Development and Research (PD&R), at the U.S. Department of Housing and Urban Development (HUD), is proposing the collection of information for the Rental Assistance Demonstration (RAD) Choice Mobility and Long-Term Affordability Evaluation.

RAD was established under the Consolidated and Further Continuing Appropriations Act of 2012 to preserve affordable housing units over the long term by enabling public housing authorities (PHAs) to apply to HUD to convert at-risk public housing properties to two different forms of project-based Section 8 Housing Assistance Payments contracts—project-based voucher (PBV) or project-based rental assistance (PBRA). Doing so gives PHAs more flexibility to access private and public funding sources to meet with short-term capital needs, reduce their reliance on limited appropriations, and stabilize their financial and physical condition. Choice mobility, an additional feature of RAD, allows residents of RAD properties to request a Housing Choice Voucher that they can use to move to a housing unit in the private market.

Congress requested an evaluation of RAD to assess the impact of the demonstration on the preservation and improvement of public housing, the amount of private sector leveraging, and the effect on tenants. HUD contracted a two-phase evaluation to address these research areas. The Phase I results were published in 2016 and the Phase II results in 2019. The OMB Approval Number for that evaluation was 2528-0304 and expired on January 31st, 2020. The Fiscal Year 2018 Appropriations Act provided funds to conduct a follow-up evaluation of the RAD program, including its implementation and outcomes, the choice mobility option, the impact on tenants and related protections, and the long-term preservation of housing affordability.

This Federal Register Notice provides an opportunity to comment on the information collection for this new phase of the RAD evaluation titled RAD Choice Mobility and Long-Term Affordability Evaluation. The current information collection is designed to support four studies included in the evaluation. One is the study of the implementation of the RAD choice mobility option and its effects on property outcomes, tenant outcomes, and the voucher program. The second study is the impact of RAD on the long-term preservation and financial viability of converted affordable housing properties. The third is the adequacy of asset management for PBV and PBRA conversions. The fourth study will examine the organizational and operational changes at PHAs that participated in RAD. For the first three studies, the evaluation includes web-based survey of all RAD PHAs, RAD property owners/operators, and former RAD residents who have exercised the choice mobility option; and a sample survey of RAD residents who have not elected the choice mobility option. For the fourth study, we plan to conduct qualitative interviews with senior staff at 25 RAD PHAs.

Information collection | Number of respondents | Frequency of response | Responses per annum | Burden ?hour per response | Annual burden hours | Hourly cost per response | Annual cost
Census of RAD PHA | 400 | 1 | 400 | 0.75 | 300.00 | $34.46 | $10,338.00
Survey of RAD non-PHA Property Owners | 228 | 1 | 228 | 0.33 | 75.24 | 34.46 | 2,592.77
Survey of choice mobility residents | 708 | 1 | 708 | 0.33 | 233.64 | 28.62 | 6,686.78
Survey of non-choice mobility residents | 231 | 1 | 231 | 0.33 | 76.23 | 28.62 | 2,181.70
Interview of PHA staff on organizational changes | 250 | 1 | 250 | 1.5 | 375.00 | 34.46 | 12,922.50
Total | 1,817 | N/A | 1,817 | N/A | 1,060.11 | N/A | 34,721.75

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

Authority: Section 3507 of the Paperwork Reduction Act of 1995, 44 U.S.C. Chapter 35.

Anna P. Guido,
Department Reports Management Officer, Office of the Chief Information Officer.

[FR Doc. 2021-04253 Filed 3-1-21; 8:45 am]

BILLING CODE 4210-67-P